DEPARTMENT OF COMMERCE

International Trade Administration

[A-570-890]

Wooden Bedroom Furniture From the People's Republic of China: Preliminary Results of Antidumping Duty Administrative Review; and Rescission, in Part; 2022

AGENCY: Enforcement and Compliance, International Trade Administration, Department of Commerce.

SUMMARY: In response to requests from interested parties, the U.S. Department of Commerce (Commerce) is conducting an administrative review of the antidumping duty order on wooden bedroom furniture (WBF) from the People's Republic of China (China) covering the period of review (POR) January 1, 2022, through December 31, 2022. Commerce has preliminarily determined that the sole mandatory respondent under review, VidaXL Ningbo Industry Co., Ltd. (aka vidaXL Ningbo Industry Co., Ltd.) (VidaXL), is not eligible for a separate rate and is part of the China-wide entity. Commerce is also rescinding this review with respect to all companies under review, except VidaXL, because all requests to review these companies have been timely withdrawn. We invite interested parties to comment on these preliminary results of review.

DATES: Applicable October 6, 2023.

FOR FURTHER INFORMATION CONTACT: Krisha Hill, AD/CVD Operations, Office IV, Enforcement and Compliance, International Trade Administration, U.S. Department of Commerce, 1401 Constitution Avenue NW, Washington, DC 20230; telephone: (202) 482-4037.

SUPPLEMENTARY INFORMATION:

Background

On January 3, 2023, Commerce published in the Federal Register a notice of opportunity to request an administrative review of the antidumping duty order on WBF from China.¹ After receiving review requests,² Commerce initiated this review.³ With the exception of VidaXL, which requested a review of itself, all other parties timely withdrew their review requests in their entirety.⁴ On July 25, 2023, we issued the initial questionnaire to VidaXL.⁵ On August 25, 2023, VidaXL explained that it “has determined it cannot adequately provide {Commerce} with the information it has requested under the deadlines imposed by {Commerce}.” ⁶

¹ See Antidumping or Countervailing Duty Order, Finding, or Suspended Investigation; Opportunity To Request Administrative Review and Join Annual Inquiry Service List, 88 FR 45 (January 3, 2023), corrected by Antidumping or Countervailing Duty Order, Finding, or Suspended Investigation; Opportunity To Request Administrative Review and Join Annual Inquiry Service List, 88 FR 10292 (February 17, 2023); see also Notice of Amended Final Determination of Sales at Less Than Fair Value and Antidumping Duty Order: Wooden Bedroom Furniture from the People's Republic of China, 70 FR 329 (January 4, 2005) (Order).

² See American Furniture Manufacturers Committee for Legal Trade and Vaughan-Bassett Furniture Company, Inc.'s (the petitioners) Letter, “Request For Initiation Of Administrative Review,” dated January 31, 2023; see also VidaXL's Letter, “VidaXL Ningbo's Request for Administrative Review,” dated January 31, 2023; and Guangzhou Maria Yee Furnishings Ltd., Pyla HK Limited, and Maria Yee, Inc's (collectively, Maria Yee) Letter, “Maria Yee's Request for Administrative Review and Request for Voluntary Respondent Treatment,” dated January 27, 2023.

³ See Initiation of Antidumping and Countervailing Duty Administrative Reviews, 88 FR 15642 (March 14, 2023) (Initiation Notice).

⁴ See Maria Yee's, Letter, “Maria Yee's Withdrawal of Request for Review,” dated May 30, 2023; see also Petitioners' Letter, “Withdrawal Of Request For Administrative Review,” dated May 26, 2023.

⁵ See Commerce's Letter, “Request for Information,” dated July 25, 2023 (Initial Questionnaire).

⁶ See VidaXL's Letter, “Response to the Department's July 25, 2023 Questionnaire,” dated August 25, 2023.

Scope of the Order ⁷

⁷ For a complete description of the scope of the Order, see Wooden Bedroom Furniture from the People's Republic of China: Final Results of Antidumping Duty Administrative Review; and Final Determination of No Shipments; 2021, 88 FR 8405 (February 9, 2023).

The product covered by the Order is WBF, subject to certain exceptions. Imports of subject merchandise are classified under the Harmonized Tariff Schedule of the United States (HTSUS) subheadings: 9403.50.9041, 9403.50.9042, 9403.50.9045, 9403.50.9080, 9403.91.0005, 9403.91.0010, 9403.91.0080, 7009.92.1090 or 7009.92.5095. Although the HTSUS subheadings are provided for convenience and customs purposes, the written description of the scope of the Order is dispositive.

Methodology

Commerce is conducting this review in accordance with section 751(a)(1)(B) of the Tariff Act of 1930, as amended (the Act), and 19 CFR 351.213.

Separate Rate

In the Initiation Notice, we informed parties that all firms for which a non-market economy review was initiated that wished to qualify for separate rate status must complete, as appropriate, either a separate rate application or a separate rate certification.⁸ We also informed parties that firms that submitted a separate rate application or a separate rate certification that are subsequently selected as mandatory respondents, would not be eligible for separate rate status unless they responded to all parts of the initial questionnaire that Commerce issued to them as mandatory respondents.⁹ After VidaXL submitted a separate rate application, Commerce selected VidaXL as the sole mandatory respondent in this review. As noted above, VidaXL failed to respond to Commerce's initial questionnaire. Consistent with Commerce's practice in such situations, as described in the Initiation Notice, and because VidaXL ceased responding to Commerce's requests for information, Commerce has preliminarily determined that VidaXL did not establish its eligibility for separate rate status, and is part of the China-wide entity.

⁸ See Initiation Notice, 88 FR at 15643-44.

⁹ Id. at 15644.

Commerce's policy regarding conditional review of the China-wide entity applies to this administrative review.¹⁰ Under this policy, the China-wide entity will not be under review unless a party specifically requests, or Commerce self-initiates, a review of the entity. Because no party requested a review of the China-wide entity, and Commerce has not self-initiated a review of the entity, the entity is not under review and the weighted-average dumping margin assigned to the China-wide entity is not subject to change as a result of this administrative review.

¹⁰ See Antidumping Proceedings: Announcement of Change in Department Practice for Respondent Selection in Antidumping Duty Proceedings and Conditional Review of the Nonmarket Economy Entity in NME Antidumping Duty Proceedings, 78 FR 65963 (November 4, 2013).

Partial Rescission of Administrative Review

Pursuant to 19 CFR 351.213(d)(1), Commerce will rescind an administrative review, in whole or in part, if a party that requested a review, withdraws its request within 90 days of the date of publication of the notice of initiation of the requested review in the Federal Register. Interested parties timely withdrew all review requests for 25 companies/company groupings for which Commerce initiated this review. Therefore, in accordance with 19 CFR 351.213(d)(1), Commerce is rescinding this review of the Order with respect to all the companies/company groupings listed in the appendix to this notice.

Disclosure and Public Comment

Normally, Commerce will disclose the calculations performed in connection with the preliminary results of review to parties to the proceeding in accordance with 19 CFR 351.224(b). However, as there were no preliminary margin calculations performed in the instant review, there are no calculations to disclose. This satisfies our regulatory obligation. Additionally, we note that, given the analysis underlying Commerce's preliminary decisions are contained herein, no decision memorandum accompanies this Federal Register notice.

Interested parties may submit case briefs to Commerce no later than 30 days after the date of publication of these preliminary results of review in the Federal Register.¹¹ Rebuttal briefs may be filed with Commerce no later than seven days after case briefs are due and may respond only to arguments raised in the case briefs.¹² A table of contents, list of authorities used, and an executive summary of issues should accompany any brief submitted to Commerce. The summary should be limited to five pages total, including footnotes.¹³

¹¹ See 19 CFR 351.309(c)(1)(ii).

¹² See 19 CFR 351.309(d).

¹³ See 19 CFR 351.309(c)(2) and (d)(2).

Pursuant to 19 CFR 351.310(c), interested parties who wish to request a hearing, limited to issues raised in the case and rebuttal briefs, must submit a written request for a hearing to the Assistant Secretary for Enforcement and Compliance, U.S. Department of Commerce, within 30 days after the date of publication of this notice in the Federal Register. Requests for a hearing should contain: (1) the requesting party's name, address, and telephone number; (2) the number of individuals associated with the requesting party that will attend the hearing and whether any of those individuals is a foreign national; and (3) a list of the issues the party intends to discuss at the hearing. Oral arguments at the hearing will be limited to issues raised in the case and rebuttal briefs. If a request for a hearing is made, Commerce will announce the date and time of the hearing. Parties should confirm by telephone the date and time of the hearing two days before the scheduled hearing date.

All submissions to Commerce, with limited exceptions, must be filed electronically using Enforcement and Compliance's Antidumping and Countervailing Duty Centralized Electronic Service System (ACCESS). An electronically filed document must be received successfully in its entirety by Commerce's electronic records system, ACCESS, by 5:00 p.m. Eastern Time on the due date.¹⁴ Note that Commerce has temporarily modified certain of its requirements for serving documents containing business proprietary information, until further notice.¹⁵

¹⁴ See 19 CFR 351.303 (for general filing requirements); Antidumping and Countervailing Duty Proceedings: Electronic Filing Procedures; Administrative Protective Order Procedures, 76 FR 39263 (July 6, 2011).

¹⁵ See Temporary Rule Modifying AD/CVD Service Requirements Due to COVID-19; Extension of Effective Period, 85 FR 41363 (July 10, 2020).

Final Results of Review

Unless otherwise extended, Commerce intends to issue the final results of this review no later than 120 days after the date these preliminary results of review are published in the Federal Register, pursuant to section 751(a)(3)(A) of the Act.

Assessment Rates

Upon issuance of the final results of this review, Commerce will determine, and U.S. Customs and Border Protection (CBP) shall assess, antidumping duties on all appropriate entries of subject merchandise covered by this review. If we do not alter these preliminary results of review, we intend to instruct CBP to liquidate entries of subject merchandise exported by VidaXL at the China-wide rate (i.e., 216.01 percent).¹⁶

¹⁶ See Amended Final Results of Antidumping Duty Administrative Review and New Shipper Reviews: Wooden Bedroom Furniture From the People's Republic of China, 72 FR 46957 (August 22, 2007).

Commerce intends to issue assessment instructions regarding VidaXL to CBP no earlier than 35 days after the date of publication of the final results of this review in the Federal Register. If a timely summons is filed at the U.S. Court of International Trade, the assessment instructions will direct CBP not to liquidate relevant entries until the time for parties to file a request for a statutory injunction has expired (i.e., within 90 days of publication).

Commerce intends to issue assessment instructions regarding the companies for which it rescinded this review no earlier than 35 days after the date of publication of this notice in the Federal Register. Commerce will instruct CBP to liquidate entries of subject merchandise exported by the companies for which we rescinded the review at the cash deposit rate required at the time of entry.

Cash Deposit Requirements

The following cash deposit requirements will be in effect for all shipments of subject merchandise entered, or withdrawn from warehouse, for consumption on, or after, the date of publication of the notice of the final results of this administrative review in the Federal Register, as provided for by section 751(a)(2)(C) of the Act: (1) for any previously investigated or reviewed China or non-China exporter that has a separate rate, the cash deposit rate will continue to be the exporter's existing cash deposit rate; (2) for all China exporters of subject merchandise that do not have a separate rate, including VidaXL, if Commerce continues to find the company is not entitled to separate rate status in the final results of review, the cash deposit rate will be equal to the dumping margin assigned to the China-wide entity, which is 216.01 percent; ¹⁷ and (3) for all non-China exporters of subject merchandise that do not have a separate rate, the cash deposit rate will be equal to the dumping margin applicable to the China exporter(s) that supplied that non-China exporter. These deposit requirements, when imposed, shall remain in effect until further notice.

¹⁷ Id., 72 FR at 46964.

Notification to Importers

This notice also serves as a preliminary reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification to Interested Parties

We are issuing and publishing these preliminary results of review in accordance with sections 751(a)(1) and 777(i)(1) of the Act, 19 CFR 351.213(d)(4), and 19 CFR 351.221(b)(4).

Dated: October 2, 2023.
Lisa W. Wang,
Assistant Secretary for Enforcement and Compliance.

Appendix

Companies/Company Groupings for Which the Administrative Review Is Being Rescinded

1. Dongguan Chengcheng Furniture Co., Ltd.

2. Eurosa (Kunshan) Co., Ltd.; Eurosa Furniture Co., (PTE) Ltd.

3. Golden Lion International Trading Ltd.; Shenzhen Jiafa High Grade Furniture Co., Ltd.

4. Golden Well International (HK), Ltd.

5. Guangzhou Maria Yee Furnishings Ltd.; Pyla HK Ltd.

6. Jiangmen Kinwai International Furniture Co., Ltd.

7. Jiangmen Kinwai Furniture Decoration Co., Ltd.

8. Jiangsu Xiangsheng Bedtime Furniture Co., Ltd.

9. Jiangsu Yuexing Furniture Group Co., Ltd.

10. Nanhai Jiantai Woodwork Co. Ltd.; Fortune Glory Industrial, Ltd. (HK Ltd.)

11. Perfect Line Furniture Co., Ltd.

12. PuTian JingGong Furniture Co., Ltd.

13. Shenyang Shining Dongxing Furniture Co., Ltd.

14. Shenzhen New Fudu Furniture Co., Ltd.

15. Shenzhen Wonderful Furniture Co., Ltd.

16. Tradewinds Furniture Ltd. (successor-in-interest to Nanhai Jiantai Woodwork Co.); Fortune Glory Industrial Ltd. (H.K. Ltd.)

17. Wuxi Yushea Furniture Co., Ltd.

18. Yeh Brothers World Trade Inc.

19. Zhangjiagang Daye Hotel Furniture Co. Ltd.

20. Zhangzhou Guohui Industrial & Trade Co. Ltd.

21. Zhangzhou XYM Furniture Product Co., Ltd.

22. Zhejiang Tianyi Scientific & Educational Equipment Co., Ltd.

23. Zhongshan Fookyik Furniture Co., Ltd.

24. Zhongshan Golden King Furniture Industrial Co., Ltd.

25. Zhoushan For-Strong Wood Co., Ltd.

[FR Doc. 2023-22307 Filed 10-5-23; 8:45 am]

BILLING CODE 3510-DS-P